DEPARTMENT OF DEFENSE

Office of the Secretary

Federal Advisory Committee; Missile Defense Advisory Committee

AGENCY: Missile Defense Agency (MDA), DoD.

ACTION: Notice of closed meeting.

SUMMARY: Under the provisions of the Federal Advisory Committee Act of 1972 (5 U.S.C., Appendix, as amended) and the Government in the Sunshine Act of 1976 (5 U.S.C. 552b, as amended) and 41 CFR 102-3.150, the Department of Defense announces that the Missile Defense Advisory Committee will meet on August 4 and 5, 2010, in Washington, DC.

DATES: The meeting will be held on Wednesday, August 4 (from 1:30 p.m. to 4:30 p.m.) and on Thursday, August 5, 2010 (from 8:15 a.m. to 5 p.m.). Security clearance and visit requests are required for access.

ADDRESSES: The meeting will be held at 7100 Defense Pentagon, Washington, DC 20301-7100.

FOR FURTHER INFORMATION CONTACT: Mr. David Bagnati, Designated Federal Officer at MDAC@mda.mil, phone/voice mail 703-695-6438, or mail at 7100 Defense Pentagon, Washington, DC 20301-7100.

SUPPLEMENTARY INFORMATION:

Purpose of the Meeting

At this meeting, the Committee will receive classified briefings by Missile Defense Agency senior staff and Program Managers on the Agency's strategic perspective and the Ballistic Missile Defense System framework and architecture.

Agenda

Topics tentatively scheduled for classified discussion include, but are not limited to briefings on the Ballistic Missile Defense Review, Early Intercept, Phased Adaptive Approach, and Missile Defense Agency Program Capabilities and Limitations; Ethical Considerations for Advisory Committee Members; Missile Defense Advisory Committee Executive Session; and Missile Defense Advisory Committee outbrief to the Director, Missile Defense Agency.

Meeting Accessibility

Pursuant to 5 U.S.C. 552b, as amended, and 41 CFR 102-3.155 the Missile Defense Agency has determined that the meeting shall be closed to the public. The Director, Missile Defense Agency, in consultation with the Missile Defense Agency Office of General Counsel, has determined in writing that the public interest requires that all sessions of the committee's meeting will be closed to the public because they will be concerned with classified information and matters covered by section 5 U.S.C. 552b(c)(1).

Written Statements

Pursuant to 41 CFR 102-3.105(j) and 102-3.140, and section 10(a)(3) of the Federal Advisory Committee Act of 1972, the public or interested organizations may submit written statements to the membership of the Missile Defense Advisory Committee about its mission and functions. Written statements may be submitted at any time or in response to the stated agenda of a planned meeting of the Missile Defense Advisory Committee.

All written statements shall be submitted to the Designated Federal Officer for the Missile Defense Advisory Committee, in the following formats: One hard copy with original signature and one electronic copy via e-mail (acceptable file formats: Adobe Acrobat PDF, MS Word or MS PowerPoint), and this individual will ensure that the written statements are provided to the membership for their consideration. Contact information for the Designated Federal Officer is as stated above under FOR FURTHER INFORMATION CONTACT and can also be obtained from the GSA's Federal Advisory Committee Act Database https://www.fido.gov/facadatabase/public.asp.

Statements being submitted in response to the agenda mentioned in this notice must be received by the Designated Federal Officer at least five calendar days prior to the meeting which is the subject of this notice. Written statements received after this date may not be provided to or considered by the Missile Defense Advisory Committee until its next meeting. The Designated Federal Officer will review all timely submissions with the Missile Defense Advisory Committee Chairperson and ensure they are provided to all members of the Missile Defense Advisory Committee before the meeting that is the subject of this notice.

Dated: July 19, 2010.
Mitchell S. Bryman,
Alternate OSD Federal Register Liaison Officer, Department of Defense.

[FR Doc. 2010-18003 Filed 7-22-10; 8:45 am]

BILLING CODE 5001-06-P